DEPARTMENT OF HOMELAND SECURITY

Coast Guard

33 CFR Part 165

[CGD13-05-034]

RIN 1625-AA87

Security Zone; Port Townsend Waterway, Puget Sound, WA, Naval Exercise

AGENCY: Coast Guard, DHS.

ACTION: Temporary final rule.

SUMMARY: The Coast Guard is establishing a temporary security zone for Naval and Army vessels while conducting ammunitions transfers in a designated area near Indian Island, Washington. The Coast Guard is taking this action to provide safety and security for Naval and Army vessels from terrorism, sabotage, other subversive acts, to allow sufficient maneuvering area for the vessel, and to maintain a sufficient blast radius from land in an event of an accident. Entry into this zone is prohibited unless authorized by the Captain of the Port, Puget Sound or his designated representatives.

DATES: This rule is effective from 6 a.m. PDT on August 9, 2005 to 11:59 p.m. PDT on August 20, 2005.

ADDRESSES: Documents indicated in this preamble as being available in the docket are part of docket CGD13-05-034 and are available for inspection or copying at the Waterways Management Division, Coast Guard Sector Seattle, 1519 Alaskan Way South, Seattle, WA 98134, between 8 a.m. and 3 p.m., Monday through Friday, except Federal holidays.

FOR FURTHER INFORMATION CONTACT: Lieutenant Junior Grade Jessica Hagen, Waterways Management Division, Coast Guard Sector Seattle, at (206) 217-6040.

SUPPLEMENTARY INFORMATION:

Regulatory Information

We did not publish a notice of proposed rulemaking (NPRM) for this regulation. Under 5 U.S.C. 553(b)(B) and (d)(3), the Coast Guard finds that good cause exists for not publishing an NPRM and for making this rule effective less than 30 days after publication in the Federal Register. Publishing a NPRM would be contrary to public interest. Due to the nature of the event, the Coast Guard was not notified by the United States Navy of final details concerning the exercise until less than 30 days prior to the date of the event. Moreover, immediate action is necessary to safeguard Naval and Army vessels from terrorism, sabotage, other subversive acts, or accident. If normal notice and comment procedures were followed, this rule would not become effective soon enough to provide necessary protection to the Port Townsend Waterway and the Naval and Army vessels from the threats posed by hostile entities. For this reason, following normal rulemaking procedures in this case would be impracticable and contrary to the public interest.

Background and Purpose

Hostile entities continue to operate with the intent to harm U.S. National Security by attacking or sabotaging national security assets. The President has continued the national emergencies he declared following the September 11, 2001 terrorist attacks. 67 FR 58317 ((Sept. 13, 2002) (continuing national emergency with respect to terrorist attacks)); 67 FR 59447 ((Sept. 20, 2002) (continuing national emergency with respect to persons who commit, threaten to commit or support terrorism)); 68 FR 55189 ((Sept. 22, 2003) (continuing national emergency with respect to persons who commit, threaten to commit or support terrorism)).

The President also has found pursuant to law, including the Magnuson Act (50 U.S.C. 191 et. seq.), that the security of the United States is and continues to be endangered following the attacks (E.O. 13,273, 67 FR 56215 (Sept. 3, 2002) (security endangered by disturbances in international relations of U.S. and such disturbances continue to endanger such relations)). Moreover, the ongoing hostilities in Afghanistan and Iraq make it prudent for U.S. ports and waterways to be on a higher state of alert because the Al Qaeda organization and other similar organizations have declared an ongoing intention to conduct armed attacks on U.S. interests worldwide.

The Coast Guard, through this action, intends to assist the U.S. Navy in protecting assets in the Port Townsend Waterway by establishing security zones and notification requirements that will exclude persons and vessels from this waterway and from the immediate vicinity of these vessels. Entry into this zone will be prohibited unless authorized by the Captain of the Port or his designee. The Captain of the Port may be assisted by other Federal, State, or local agencies.

Discussion of Rule

This temporary final rule is established to maintain a distance in accordance with Naval Magazine Indian Island's (NAVMAG) “Explosive Safety Quantity-Distance” (ESQD) Arcs, and for safety and security concerns controls vessel movement in and around the Port Townsend Waterway, Puget Sound, WA.

This temporary final rule establishes a security zone controlling all vessel movement in the Port Townsend Waterway, Puget Sound, WA which includes all waters enclosed in an area with the following points: 48°04′40″ N, 122°44′31″ W; then northwesterly to 48°04′59.5″ N, 122°44′52″ W; then northwesterly to 48°05′35″ N, 122°45′17″ W; then southwesterly to 48°05′20″ N, 122°45′50″ W; then southeasterly to 48°02′39″ N, 122°44′46″ W; then easterly to 48°02′42″ N, 122°44′17″ W; then northerly along the shoreline of the Indian Island to the point of origin. [Datum: NAD 1983].

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This zone will not have a significant economic impact due to its short duration and small area. Because the impacts of this proposal are expected to be minimal, the Coast Guard certifies under 5 U.S.C. 605(b) that this rule will not have a significant economic impact on a substantial number of small entities.

If you believe that your business, organization, or governmental jurisdiction qualifies as a small entity and that this rule would have a significant economic impact on it, please submit a comment (see ADDRESSES) explaining why you believe it qualifies and how and to what degree this rule would economically affect it.

Assistance for Small Entities

Under section 213(a) of the Small Business Regulatory Enforcement Fairness Act of 1996 (Pub. L. 104-121), we want to assist small entities in understanding the rule so that they could better evaluate its effects on them and participate in the rulemaking process.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. The environmental analysis and Categorical Exclusion Determination will be prepared and be available in the docket for inspection and copying where indicated under ADDRESSES. All standard environmental measures remain in effect.

List of Subjects in 33 CFR Part 165

Harbors, Marine safety, Navigation (water), Reporting and recordkeeping requirements, Security measures, Waterways.

Temporary Final Rule

For the reasons set out in the preamble, the Coast Guard amends Part 165 of Title 33, Code of Federal Regulations, as follows:

PART 165—[AMENDED]

1. The authority citation for Part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. From 6 a.m. PDT on August 9, 2005, to 11:59 p.m. PDT on August 20, 2005, a temporary § 165.T13-014 is added to read as follows:

§ 165.T13-014 Security Zone Regulations, Port Townsend Waterway, Puget Sound, Washington.

(a) Port Townsend Waterway Security Zone: A security zone controlling all vessel movement exists in the Port Townsend Blair waterway, Puget Sound, WA which includes all waters enclosed by the following points: 48°40′40″ N, 122°44′31″ W; then northwesterly to 48°04′59.5″ N, 122°44′52″ W; then northwesterly to 48°05′35″ N, 122°45′17″ W; then southwesterly to 48°05′20″ N, 122°45′50″ W; then southeasterly to 48°02′39″ N, 122°44′46″ W; then easterly to 48°02′42″ N, 122°44′17″ W; then northerly along the shoreline of the Indian Island to the point of origin. [Datum: NAD 1983].

(b) Regulations. The general regulations in 33 CFR part 165, subpart D, apply to the security zone described in paragraph (a) of this section. No person or vessel may enter this security zone unless authorized by the Captain of the Port or his designated representatives. Vessels and persons granted authorization to enter the security zone must obey all lawful orders or directions of the Captain of the Port or his designated representatives. The Captain of the Port may be assisted by other federal, state, or local agencies in enforcing this section pursuant to 33 CFR 6.04-11.

Dated: August 4, 2005.
Stephen P. Metruck,
Captain, U.S. Coast Guard, Captain of the Port, Puget Sound.

[FR Doc. 05-16286 Filed 8-16-05; 8:45 am]

BILLING CODE 4910-15-P